FEDERAL TRADE COMMISSION

[File No. 022 3122]

Global Instruments Ltd., et al.; Analysis To Aid Public Comment

AGENCY: Federal Trade Commission.

ACTION: Proposed consent agreement.

SUMMARY: The consent agreement in this matter settles alleged violations of federal law prohibiting unfair or deceptive acts or practices or unfair methods of competition. The attached Analysis to Aid Public Comment describes both the allegations in the draft complaint that accompanies the consent agreement and the terms of the consent order—embodied in the consent agreement—that would settle these allegations.

DATES: Comments must be received on or before August 18, 2003.

ADDRESSES: Comments filed in paper form should be directed to: FTC/Office of the Secretary, Room 159-H, 600 Pennsylvania Avenue, NW., Washington, DC 20580. Comments filed in electronic form should be directed to: consentagreement@ftc.gov, as prescribed in the SUPPLEMENTARY INFORMATION section.

FOR FURTHER INFORMATION CONTACT: Connie Vecellio or Patricia Bak, FTC, Bureau of Consumer Protection, 600 Pennsylvania Avenue, NW., Washington, DC 20580, (202) 326-2966 or 326-2842.

SUPPLEMENTARY INFORMATION: Pursuant to Section 6(f) of the Federal Trade Commission Act, 38 Stat. 721, 15 U.S.C. 46(f), and Section 2.34 of the Commission's Rules of Practice, 16 CFR 2.34, notice is hereby given that the above-captioned consent agreement containing a consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for July 18, 2003), on the World Wide Web, at http://www.ftc.gov/os/2003/07/index.htm. A paper copy can be obtained from the FTC Public Reference Room, Room 130-H, 600 Pennsylvania Avenue, NW., Washington, DC 20580, either in person or by calling (202) 326-2222.

Public comments are invited, and may be filed with the Commission in either paper or electronic form. Comments filed in paper form should be directed to: FTC/Office of the Secretary, Room 159-H, 600 Pennsylvania Avenue, NW., Washington, DC 20580. If a comment contains nonpublic information, it must be filed in paper form, and the first page of the document must be clearly labeled “confidential.” Comments that do not contain any nonpublic information may instead be filed in electronic form (in ASCII format, WordPerfect, or Microsoft Word) as part of or as an attachment to e-mail messages directed to the following e-mail box: consentagreement@ftc.gov. Such comments will be considered by the Commission and will be available for inspection and copying at its principal office in accordance with Section 4.9(b)(6)(ii) of the Commission's Rules of Practice, 16 CFR 4.9(b)(6)(ii)).

Analysis of Proposed Consent Order To Aid Public Comment

The Federal Trade Commission has accepted, subject to final approval, an agreement containing a consent order from Global Instruments Ltd. and Charles Patterson, individually and as an officer of the corporation.

The proposed consent order has been placed on the public record for thirty (30) days for receipt of comments by interested persons. Comments received during this period will become part of the public record. After thirty (30) days, the Commission will again review the agreement and the comments received and will decide whether it should withdraw from the agreement or make final the agreement's proposed order.

This matter concerns practices related to the advertising, offering for sale, sale, and distribution of various electromagnetic, ultrasonic, and combination electromagnetic and ultrasonic pest control devices. The Commission's proposed complaint alleges that proposed respondents violated section 5 of the Federal Trade Commission Act, 15 U.S.C. § 5, by making numerous representations about Global's pest control products for which they lacked a reasonable basis. Specifically, the complaint alleges that the following representations were unsubstantiated:

• Global's electromagnetic pest control products repel, drive away, or eliminate mice, rats, and cockroaches from homes and other buildings in two to four weeks and drive them away by sending a pulsating signal throughout or altering the field around the electrical wiring inside homes and other buildings; they act as an effective alternative to or eliminate the need for chemicals, pesticides, insecticides, exterminators, and pest control services;

• Global's combination electromagnetic/ultrasonic pest control devices effectively repel, control or eliminate mice, rats, cockroaches, rodents, insects, spiders, silverfish, and bats from homes and other buildings and upset nesting sites of mice, rats, and cockroaches within walls, ceilings, and floors by using the products' pulse or electromagnetic technology through the household wiring;

• Global's ultrasonic pest control devices effectively repel, drive away, or eliminate mice, rats, bats, crickets, spiders and other insects from homes and eliminate the need for toxic chemicals, poisons or traps; and

• Global's pest control products are effective within a space of a given size (for example, 1000 sq. ft. or 2000 sq. ft.).

The proposed consent order contains provisions designed to prevent proposed respondents from engaging in similar acts and practices in the future. Part I of the proposed order prohibits the following representations unless respondents possess competent and reliable scientific evidence that substantiates the representations:

• That any pest control product repels, controls, or eliminates, temporarily or indefinitely, mice, rats, cockroaches, or any other insects or animal pests and that it does so in an area of a certain size;

• that any pest control product is an effective alternative to or eliminates the need for chemicals, pesticides, insecticides, exterminators, or any other pest control product or service; and

• that any pest control product will alter the electromagnetic field, send a pulsating signal, or otherwise work inside the walls or through the wiring of homes or other buildings in a manner that effectively repels, controls, drives away, or eliminates mice, rats, cockroaches, or any other insects or animal pests.

Part II of the proposed order requires respondents to possess and rely upon competent and reliable evidence, which when appropriate must be competent and reliable scientific evidence, for claims about the benefit, performance, or efficacy of any product.

Part III of the proposed order requires the respondents to maintain certain records for five years after the last date of dissemination of any representation covered by the order. These records include: (1) All advertisements and promotional materials containing the representation; (2) all materials relied upon in disseminating the representation; and (3) all evidence in respondents' possession or control that contradicts, qualifies, or calls into question the representation or the basis for it.

Part IV of the proposed order requires distribution of the order to current and future principals, officers, directors, and managers, and to current and future employees, agents, and representatives having responsibilities with respect to the subject matter of the order.

Part V of the proposed order requires that the Commission be notified of any change in the corporation that might affect compliance obligations under the order. Part VI of the proposed order requires that for a period of three years, respondent Charles Patterson will notify the Commission of the discontinuance of his current business or employment or of his affiliation with any new business or employment involving the marketing of any consumer product.

Part VII of the proposed order requires the respondents to file a compliance report with the Commission.

Part VIII of the proposed order states that, absent certain circumstances, the order will terminate twenty (20) years from the date it is issued.

The purpose of this analysis is to facilitate public comment on the proposed consent order. It is not intended to constitute an official interpretation of the agreement and proposed order or to modify their terms in any way.

By direction of the Commission.
Donald S. Clark,
Secretary.

[FR Doc. 03-18742 Filed 7-22-03; 8:45 am]

BILLING CODE 6750-01-P